CORPORATION FOR NATIONAL AND COMMUNITY SERVICE

Information Collection; Submission for OMB Review; Comment Request

AGENCY: Corporation for National and Community Service.

ACTION: Notice.

The Corporation for National and Community Service (hereinafter the “Corporation”), has submitted the following public information collection requests (ICRs) to the Office of Management and Budget for review and approval in accordance with the Paperwork Reduction Act of 1995 (Pub. L. 104-13. (44 U.S.C. chapter 35)). Copies of these individual ICRs, with applicable supporting documentation, may be obtained by calling the Corporation for National and Community Service, Office of Evaluation, Chuck Helfer, (202) 606-5000, extension 248. Individuals who use a telecommunications device for the deaf (TTY/TDD) may call (202) 606-5256 between the hours of 9:00 a.m. and 4:30 p.m. Eastern time, Monday through Friday.

Comments should be sent to the Office of Information and Regulatory Affairs, Attn: Ms. Brenda Aguilar, OMB Desk Officer for the Corporation for National and Community Service, Office of Management and Budget, Room 10235, Washington, D.C. 20503, (202) 395-7326, within 30 days of this publication in the Federal Register.

The OMB is particularly interested in comments which:

• Evaluate whether the proposed collection of information is necessary for the proper performance of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g., permitting electronic submissions of responses.

Type of Review: New.

Agency: Corporation for National and Community Service.

Title: Evaluation of the Effectiveness of Learn and Serve America Grants in Promoting Institutionalization of Service-Learning in Grantee Institutions.

OMB Number: None.

Agency Number: None.

Affected Public: Service-learning coordinators, service-learning program administrators or similar staff at schools, school districts, community-based organizations or higher education institutions that received a Learn and Serve America grant in 1994-95.

Total Respondents: Approximately 470 service-learning coordinators or similar staff in schools, districts, community-based organizations and higher education institutions that received Learn and Serve grants.

Frequency: This is a one-time survey.

Average Time Per Response: 60 minutes.

Estimated Total Burden Hours: 470 hours.

Total Burden Cost (capital/startup): None.

Total Burden Cost (operating/maintenance): None.

Description: The Corporation seeks approval of a survey to be used in evaluating the effectiveness of Learn and Serve America grants in promoting the institutionalization of service-learning in grantee institutions and the degree to which funded programs have been and are likely to be sustained after the completion of the grant period. There are four versions of the survey: one each for K-12 district and school-based programs, one for community-based organizations, and one for higher education institutions. The versions are parallel in structure and content, with variations in the wording of specific items to address the characteristics of each type of institution. The surveys will be administered to a sample of 470 Learn and Serve grantee and subgrantee organizations that received their initial Learn and Serve grants in 1994-95.

The study will allow the Corporation to assess the growth and institutionalization of service-learning in Learn and Serve grantee institutions, to assess the degree to which service-learning activities have been sustained after the end of Learn and Serve funding, and to assess the role of Learn and Serve America grants in promoting the growth and institutionalization of service-learning in grantee institutions. Findings from the study will help the Corporation to develop more effective strategies for supporting institutionalization of service-learning through its planning, grantmaking and technical assistance activities.

There have been two changes since the publication of the 60 day notice (Federal Register, November 16, 2000 (Volume 65, Number 222), Pages 69288-69290). The original plan called for the survey to be administered through a telephone interview. The current plan calls for the survey to be distributed as a paper-based, mail survey. The original plan also included short and long versions of each form. The current submission includes a single version of each form.

Dated: February 21, 2001.
Lance D. Potter,
Director, Office of Evaluation.

[FR Doc. 01-4712 Filed 2-26-01; 8:45 am]

BILLING CODE 6050-$$-U